FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011539-009.

Title: Libra/Lykes/ML Space Charter and Sailing Agreement.

Parties:

Companhia Libra de Navegacao

Lykes Lines Limited, LLC

TMM Lines Limited, LLC

Synopsis: The proposed agreement amendment expands the geographic scope to include the Atlantic Coast of Florida and Trinidad and Tobago.

Agreement No.: 011591-002.

Title: EUKOR/WWL Space Charter Agreement.

Parties:

EUKOR Car Carriers. Inc.

Wallenius Wilhelmsen Lines AS

Synopsis: The amendment substitutes EUKOR Car Carriers for Hyundai Merchant Marine Co., Ltd. as a party to the agreement.

Agreement No.: 011841.

Title: Lykes/Libra Slot Charter Agreement.

Parties:

Companhia Libra de Navegacao

Lykes Lines Limited, LLC.

Synopsis: The proposed agreement would authorize Libra to take space on Lykes' vessels operating between the U.S. and Mexican Gulf Coasts and the Atlantic Coast of Colombia.

Agreement No.: 011842.

Title: Crowley/Dole Space Charter and Sailing Agreement.

Parties:

Crowley Liner Services

Dole Ocean Cargo Express, Inc.

Synopsis: The agreement authorizes the parties to engage in reciprocal vessel slot chartering in the trade between Port Everglades, Florida, and Puerto Limon, Costa Rica. The parties request expedited review.

Agreement No.: 011843.

Title: LT/ZIM Cross Space Charter and Cooperative Working Agreement.

Parties:

Lloyd Triestino de Navigazione S.p.A.

Zim Israel Navigation Company Ltd.

Synopsis: The agreement authorizes the parties to exchange space on their respective services in the trades between the U.S. East Coast and the Caribbean, Central America and the Far East.

By Order of the Federal Maritime Commission.
Dated: February 28, 2003.
Bryant L. VanBrakle,
Secretary.

[FR Doc. 03-5152 Filed 3-4-03; 8:45 am]

BILLING CODE 6730-01-P